DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before May 27, 2004.

ADDRESSES: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with part 107 of the Federal hazardous transportation law (49 U.S.C. 5117(b); 49 CFR 1.53(b)).

Issued in Washington, DC, on April 22, 2004.
R. Ryan Posten,
Exemptions Program Officer, Office of Hazardous Materials Safety, Exemptions & Approvals.

New Exemption
Application No. | Docket No. | Applicant | Regulation(s) affected | Nature of exemption thereof
13542-N | RSPA-2004-17550 | Worthington Cylinders GmbH., A-3291, Kienberg-Gaming | 49 CFR 180.205; 173.301(h); 173.302(a)(1) | To authorize the manufacture, mark, sale and use of non-DOT specification cylinders for use in the transporting certain flammable and nonflammable gases. (Modes 1, 2, 3, 4)
13544-N | RSPA-2004-17548 | Blue Rhino Corporation, Winston-Salem, NC | 49 CFR 173.29 | To authorize the transportation in commerce of cylinders containing a residue of propane to be transported as essentially unregulated.
13546-N | RSPA-2004-17547 | RUTGERS Organics Corporation, State College, PA | 49 CFR 171-180 | To authorize the transportation in commerce of certain hazardous materials across a public road from the facility to be transported as essentially unregulated. (Mode 1)
13547-N | RSPA-2004-17546 | CP Industries, McKeesport, PA | 49 CFR 178.36(j); 178.36(1); 178.37(j); 178.37(1) | To authorize the use of an alternative testing procedure as an alternative to the flattening tests specified for DOT series cylinders. (Modes 1, 2, 3, 4)
13548-N | RSPA-2004-17545 | Continental Battery Company, Dallas, TX | 49 CFR 173.159 | To authorize the transportation in commerce of batteries with two different UN numbers on the same transport vehicle. (Mode 1)
13549-N | RSPA-2004-17544 | West Isle Air Inc., Anacortes, WA | 49 CFR 172.101 Table; Col. (9B); 172.204(c)(3); 173.27(b)(3) and 175.30(a)(1) | To authorize the transportation in commerce of certain Division 1.1,1.2,1.3 and 1.4 explosives which are forbidden or exceed quantities presently authorized for transportation. (Mode 4)
13551-N | RSPA-2004-17542 | INO Therapeutics, LLC, Port Allen, LA | 49 CFR 173.301(1) | To authorize the transportation in commerce of non-DOT specification cylinders that are designed to a foreign specification for use in transporting various hazardous materials. (Modes 1, 3)
13553-N |  | Aerojet, Redmond, WA | 49 CFR 173.51; 173.56; 173.56(b)(1); 173.57; 176.58 | To authorize the manufacture, mark, sale and use of a specially designed device used as part of a fire suppression system. (Mode 1)
13554-N |  | The Fertilizer Institute, Washington, DC | 49 CFR 173.315(m) | To authorize the transportation in commerce of anhydrous ammonia in cargo tanks (nurse tanks) without certain specification markings operated by private carrier exclusively for agricultural purposes. (Mode 1)

[FR Doc. 04-9556 Filed 4-26-04; 8:45 am]

BILLING CODE 4909-60-M